DEPARTMENT OF HOMELAND SECURITY

Coast Guard

33 CFR Part 117

[Docket No. USCG-2015-0918]

Drawbridge Operation Regulation; Ebey Slough (Snohomish River), Marysville, WA

AGENCY: Coast Guard, DHS.

ACTION: Notice of deviation from drawbridge regulation.

SUMMARY: The Coast Guard has issued a temporary deviation from the operating schedule that governs the Burlington Northern Santa Fe Railroad Company (BNSF) Bridge 38.3 across Ebey Slough (Snohomish River), mile 1.5 at Marysville, WA. The deviation is necessary to accommodate scheduled bridge rail joint maintenance and replacement. The deviation allows the bridges to remain in the closed-to-navigation position during the maintenance to allow safe movement of work crews.

DATES: This deviation is effective from 6 a.m. on October 11, 2015 through 11:59 p.m. on October 31, 2015.

ADDRESSES: The docket for this deviation, [USCG-2015-0918] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7234, email d13-pf-d13bridges@uscg.mil.

SUPPLEMENTARY INFORMATION: BNSF has requested a temporary deviation from the operating schedule for the BNSF RR Bridge 38.3, mile 1.5, crossing Ebey Slough (Snohomish River), at Marysville, WA. BNSF requested the BNSF RR Bridge 38.3 remain in the closed-to-navigation position for rail maintenance. This maintenance has been scheduled, and is funded as part of the Cascade Corridor Improvement Project.

The normal operating schedule for this bridge operates in accordance with 33 CFR 117.5 which states it must open promptly on signal at any time, and requires constant attendance by with a drawtender. BNSF RR Bridge 38.3 provides 5 feet of vertical clearance in the closed-to-navigation position above high-water, and at the lowest tides up to 16 feet may be available.

This deviation allows the BNSF RR Bridge 38.3, at mile 1.5 crossing Ebey Slough, to remain in the closed-to navigation position, and need not open for maritime traffic from 6 a.m. on October 11, 2015 through 11:59 p.m. on October 31, 2015. The bridge shall operate in accordance to 33 CFR part 117 subpart A at all other times.

Vessels able to pass through the bridge in the closed-to-navigation position may do so at any time. The bridge will be required to open, if needed, for vessels engaged in emergency response operations during this closure period, but any time lost to emergency openings will necessitate a time extension add to the approved dates. Waterway usage on this part of the Snohomish River and Ebey Slough includes vessels ranging from a commercial tug to small pleasure craft. No immediate alternate route for vessels to pass is available on this part of the river. The Coast Guard will also inform the users of the waterways through our Local and Broadcast Notices to Mariners of the change in operating schedule for the bridge so that vessels can arrange their transits to minimize any impact caused by the temporary deviation.

In accordance with 33 CFR 117.35(e), the drawbridges must return to their regular operating schedule immediately at the end of the effective period of this temporary deviation. This deviation from the operating regulations is authorized under 33 CFR 117.35.

Dated: September 23, 2015.
Steven M. Fischer,
Bridge Administrator, Thirteenth Coast Guard District.

[FR Doc. 2015-25314 Filed 10-5-15; 8:45 am]

BILLING CODE 9110-04-P